DEPARTMENT OF THE INTERIOR

Minerals Management Service

Outer Continental Shelf (OCS), Central Planning Area (CPA) in the Gulf of Mexico (GOM), Oil and Gas Lease Sale 213 in 2010

AGENCY: Minerals Management Service (MMS), Interior.

ACTION: Call for Information and Nominations/Notice of Preparation (Call/NOP) of an Environmental Assessment (EA).

SUMMARY: This Call for Information and Nominations (hereinafter referred to as the “Call”) is the initial step in the prelease process. The purpose of the Call is to gather information on oil and gas leasing, exploration, and development that might result from an OCS oil and gas lease sale tentatively scheduled in early 2010. The purpose of the NOP is to announce MMS's intent to prepare an EA for CPA Sale 213.

DATES: Comments must be received no later than November 10, 2008 at the address specified below.

FOR FURTHER INFORMATION CONTACT: For information on this Call, please contact Mr. Carrol Williams, Minerals Management Service, Gulf of Mexico OCS Region, 1201 Elmwood Park Boulevard, New Orleans, Louisiana 70123-2394, telephone (504) 736-2803. For information on the NOP, you may contact Mr. Gary Goeke, Gulf of Mexico OCS Region, 1201 Elmwood Park Boulevard, New Orleans, Louisiana 70123-2394, telephone (504) 736-3233.

SUPPLEMENTARY INFORMATION: On July 14, 2008, the President modified an Executive order, thereby making additional acreage available for leasing in the Central Planning Area of the Gulf of Mexico. The EA associated with this NOP will update the environmental and socioeconomic analyses. The MMS plans to complete National Environmental Policy Act (NEPA), OCS Lands Act (OCSLA), and Coastal Zone Management Act (CZMA) coverage for the proposed lease sale.

Call for Information and Nominations

1. Authority

This Call is published pursuant to the OCSLA as amended (43 U.S.C. 1331-1356), and the regulations issued thereunder (30 CFR part 256).

2. Purpose of Call

The purpose of the Call is to gather information for the following tentatively scheduled OCS Lease Sale in the Central Planning Area.

Lease Sale, OCS Planning Area:

Lease Sale 213, Central Planning Area.

Tentative Lease Sale Date:

March 2010.

Information and nominations on oil and gas leasing, exploration, development and production within this portion of the CPA is sought from all interested parties. This early planning and consultation step is important for ensuring that all interests and concerns are communicated to the Department of the Interior for future decisions in the leasing process pursuant to the OCSLA and regulations at 30 CFR part 256.

Final delineation of this area for possible leasing will be made at a later date and in compliance with applicable laws including all requirements of the NEPA, CZMA and OCSLA. Established Departmental procedures will be employed.

3. Description of Area

A Call for the majority of the acreage in the CPA was issued in April 2006. This Call encompasses approximately 90,998.2424 acres in that portion of the CPA made available by the President's action. A standard Call for Information Map depicting this portion of the Central Planning Area is available without charge from: Minerals Management Service, Public Information Unit (MS 5034), 1201 Elmwood Park Boulevard, New Orleans, Louisiana 70123-2394, or telephone: 1-800-200-GULF. The map is also available via the MMS Web site at http://www.mms.gov.

4. Instructions on Call

Comments must be received no later than 30 days following publication of this document in the Federal Register in envelopes labeled “Comments on the Call for Information and Nominations for Proposed Lease Sale 213 in 2010,” submitted to the Gulf of Mexico Region's Leasing Activities Section, Sales and Support Unit (Attention: Mr. Carrol Williams) at the previously noted address.

The standard Call for Information Map delineates the Call area, all of which has been identified by the MMS as having potential for the discovery of accumulations of oil and gas.

Comments are sought from all interested parties about particular geological, environmental (including natural disasters), biological, archaeological and socioeconomic conditions or conflicts, or other information that might bear upon the potential leasing and development of this area. Comments are also sought on possible conflicts between future OCS oil and gas activities that may result from the proposed lease sale and State Coastal Management Programs (CMP's). If possible, these comments should identify specific CMP policies of concern, the nature of the conflict foreseen, and steps that the MMS could take to avoid or mitigate the potential conflict. Comments may be in terms of broad areas or restricted to particular blocks of concern. Those submitting comments are requested to list block numbers or outline the subject area on the standard Call for Information Map.

5. Use of Information From Call

Information submitted in response to this Call will be used for several purposes. First, comments on possible environmental effects and potential use conflicts will be used in the analysis of environmental conditions in and near the Call area. Comments on environmental and other use conflicts will be used to make a preliminary determination of the potential advantages and disadvantages of oil and gas exploration and development to the region and the Nation. Second, comments may be used in developing lease terms and conditions to ensure environmentally safe offshore operations, and, third, comments may be used to assess potential conflicts between offshore gas and oil activities and a State CMP.

6. Existing Information

The MMS routinely assesses the status of information acquisition efforts and the quality of the information base for potential decisions on a tentatively scheduled lease sale. An extensive environmental studies program has been underway in the GOM since 1973. The emphasis, including continuing studies, has been on “environmental analysis” of biologically sensitive habitats, physical oceanography, ocean-circulation modeling, ecological effects of oil and gas activities, and hurricane impacts on coastal communities and the environment.

You may obtain a complete listing of available study reports and information for ordering copies from the Public Information Unit referenced above. You may also order the reports for a fee, from the U.S. Department of Commerce, National Technical Information Service, 5285 Port Royal Road, Springfield, Virginia 22161, or telephone (703) 605-6000 or (800) 553-6847. In addition, you may obtain a program status report for continuing studies in this area from the Chief, Environmental Sciences Section (MS 5430), Minerals Management Service, Gulf of Mexico OCS Region, 1201 Elmwood Park Boulevard, New Orleans, Louisiana 70123-2394, or telephone (504) 736-2752, or via the MMS Web site at http://www.gomr.mms.gov/homepg/regulate/environ/studiesprogram.html.

7. Tentative Schedule

Milestones for Proposed Lease Sale 213 in 2010

NOP for an EA, October 2008.

Call for Information and Nominations, October 2008.

Comments received on Call/NOP, November 2008.

Area Identification Decision, December 2008-January 2009.

NOA/Final EA, September-October 2009.

Proposed Notice and Coastal Zone Management Consistency Determination, October 2009.

Final Notice of Sale, February 2010.

Tentative Lease Sale Date, March 2010 (Lease Sale 213).

Notice of Preparation of an Environmental Assessment

1. Authority

This NOP is published pursuant to the regulations (40 CFR 1501.7) implementing the provisions of the NEPA of 1969 as amended (42 U.S.C. 4321 et seq. (1988)).

2. Purpose of Notice of Preparation

Pursuant to the regulations implementing the procedural provisions of NEPA, MMS is announcing its preparation of an Environmental Assessment on an oil and gas lease sale tentatively scheduled in early 2010 in the CPA offshore the States of Louisiana, Mississippi, Alabama, and Florida. The MMS is issuing this notice to facilitate public involvement. The preparation of this EA is an important step in the decision process for Lease Sale 213. The proposal for Lease Sale 213 was analyzed in the Gulf of Mexico OCS Oil and Gas Lease Sales: 2009-2012; Western Planning Area Sales 210, 215, and 218; Central Planning Area Sales 208, 213, 216, and 222—Final Supplemental Environmental Impact Statement (Supplemental EIS, OCS EIS/EA MMS 2008-041). This EA for proposed Lease Sale 213 will reexamine the potential environmental effects of the proposed lease sale and its alternatives (i.e., excluding the unleased blocks near biologically sensitive topographic features; excluding the unleased blocks within 15 miles of the Baldwin County, Alabama, Coast; and no action) based on any new information regarding potential impacts and issues that were not available at the time the Supplemental EIS was prepared. This EA for proposed Lease Sale 213 will also examine the potential environmental effects of the addition of two small areas within the CPA, located greater than 100 miles from the coasts of Alabama and Florida, that were not previously examined by the Supplemental EIS (OCS EIS/EA MMS 2008-041) or Multisale EIS (OCS EIS/EA MMS 2007-018), but were included in the 5-year program.

3. Supplemental Information

The Multisale EIS (OCS EIS/EA MMS 2007-018) addressed CPA lease sales Sale 205 in 2007, Sale 206 in 2008, Sale 208 in 2009, Sale 213 in 2010, Sale 216 in 2011, and Sale 222 in 2012; and WPA lease sales Sale 204 in 2007, Sale 207 in 2008, Sale 210 in 2009, Sale 215 in 2010, and Sale 218 in 2011. However, the Gulf of Mexico Energy Security Act of 2006 repealed the Congressional moratorium on approximately 5.8 million acres located in the southeastern part of the Central Planning Area (CPA). Therefore, it was necessary to prepare additional NEPA documentation to address the MMS proposal to expand the CPA by the 5.8 million acre area. Federal regulations allow for several related or similar proposals to be analyzed in one EIS (40 CFR 1502.4). Since each proposed lease sale and its projected activities are very similar each year for each planning area, a single Supplemental EIS was prepared for the remaining seven Western Planning Area (WPA) and CPA lease sales scheduled in the OCS Oil and Gas Leasing Program: 2007-2012 (5-Year Program). In September 2008, MMS published a Supplemental EIS (OCS EIS/EA MMS 2008-041) that addressed seven proposed Federal actions that would offer for lease areas on the GOM OCS that may contain economically recoverable oil and gas resources.

After completion of this EA, MMS will determine whether to prepare a Finding of No New Significant Impact (FONNSI) or a Supplemental EIS. The MMS prepares a Consistency Determination (CD) to determine whether the lease sale is consistent with each affected State's federally-approved coastal zone management program. Finally, MMS will solicit comments via the Proposed Notice of Sale (PNOS) from the governors of the affected States on the size, timing, and location of the lease sale. The tentative schedule for the prelease decision process for Lease Sale 213 is as follows: EA/FONNSI or Supplemental EIS decision, September-October 2009; CD's will be sent to affected States five months before the lease sale; PNOS sent to governors of the affected States, five months before the lease sale; Final Notice of Sale, if applicable, published in the Federal Register, February 2010.

For more information on the EA, you may contact Gary Goeke, Gulf of Mexico OCS Region, 1201 Elmwood Park Boulevard, MS 5410, New Orleans, Louisiana 70123-2394 or e-mail environment@mms.gov. You may also contact Mr. Goeke by telephone at (504) 736-3233.

4. Comments

Federal, State, and local government agencies, and other interested parties are requested to send their written comments on the EA, significant issues that should be addressed, and alternatives that should be considered in one of the following three ways:

1. Electronically using MMS's Public Connect on-line commenting system at https://ocsconnect.mms.gov. From the Public Connect “Welcome” screen, search for “Lease Sale 213 EA” or select it from the “Projects Open for Comment” menu.

2. In written form enclosed in an envelope labeled “Comments on the Lease Sale 213 EA” and mailed (or hand carried) to the Regional Supervisor, Leasing and Environment (MS 5410), Minerals Management Service, Gulf of Mexico OCS Region, 1201 Elmwood Park Boulevard, New Orleans, Louisiana 70123-2394.

3. Electronically to the MMS e-mail address: environment@mms.gov.

Comments should be submitted no later than 30 days from the publication of this NOP.

Dated: September 30, 2008.
Randall B. Luthi,
Director, Minerals Management Service.

[FR Doc. E8-23975 Filed 10-8-08; 8:45 am]

BILLING CODE 4310-MR-P